DEPARTMENT OF LABOR

Employment and Training Administration

[TA-W-55,108]

Cosom Sporting Goods, Inc., Thorofare, NJ; Notice of Revised Determination on Reconsideration

On August 25, 2004, the Department issued an Affirmative Determination Regarding Application on Reconsideration applicable to workers and former workers of the subject firm. The notice was published in the Federal Register on September 8, 2004 (69 FR 54318).

The Department initially denied Trade Adjustment Assistance (TAA) to workers of Cosom Sporting Goods, Inc., Thorofare, New Jersey due to the lack of increased imports and the absence of production shift abroad during the relevant period. The initial investigation found that the subject company was purchased by another company and that all production was shifted domestically.

During the reconsideration investigation, the Department requested additional information from the subject company and conducted a new customer survey. The survey revealed increased customer reliance upon imports during the relevant period.

In accordance with section 246 the Trade Act of 1974 (26 U.S.C. 2813), as amended, the Department herein presents the results of its investigation regarding certification of eligibility to apply for alternative trade adjustment assistance (ATAA) for older workers.

In order for the Department to issue a certification of eligibility to apply for ATAA, the group eligibility requirements of section 246 of the Trade Act must be met. The Department has determined in this case that the requirements of section 246 have been met.

A significant number of workers at the firm are age 50 or over and possess skills that are not easily transferable. Competitive conditions within the industry are adverse.

Conclusion

After careful review of the facts obtained in the investigation, I determine that there were increased imports of articles that are like or directly competitive with those produced by the subject firm or subdivision. In accordance with the provisions of the Act, I make the following certification:

All workers of Cosom Sporting Goods, Inc., Thorofare, New Jersey who became totally or partially separated from employment on or after June 21, 2003, through two years from the date of certification are eligible to apply for adjustment assistance under section 223 of the Trade Act of 1974, and are also eligible to apply for alternative trade adjustment assistance under section 246 of the Trade Act of 1974.

Signed in Washington, DC this 11th day of January, 2005.
Linda G. Poole,
Certifying Officer, Division of Trade Adjustment Assistance.

[FR Doc. E5-268 Filed 1-25-05; 8:45 am]

BILLING CODE 4510-30-P